DEPARTMENT OF THE INTERIOR

Bureau of Indian Affairs

Proposed Information Collection Under the Paperwork Reduction Act; Comment Request

AGENCY: Bureau of Indian Education, Interior.

ACTION: Notice of proposed renewal of information collection.

SUMMARY: The Bureau of Indian Education (BIE), in accordance with the Paperwork Reduction Act, is planning to renew the No Child Left Behind Regulations, 25 CFR parts 36 and 47, OMB Control Number 1076-0164.

DATES: Submit comments on or before July 6, 2007 for best consideration.

ADDRESSES: Please send comments to Mr. Thomas M. Dowd, Director, Bureau of Indian Education, 1849 C Street, NW., Mail Stop 3609-MIB, Washington, DC 20240, facsimile number (202) 208-3312.

FOR FURTHER INFORMATION CONTACT: Dr. James Martin, Chief, Division of Planning and Research, Bureau of Indian Education, 1849 C Street, NW., Mail Stop 3609-MIB, Washington, DC 20240, Telephone: (202) 208-6123, Facsimile: (202) 208-3312 or by e-mail at jmartin1@bia.edu.

SUPPLEMENTARY INFORMATION: Public Law 107-110, the No Child Left Behind (NCLB) Act of January 8, 2001, requires all schools, including BIE-funded boarding/residential schools, to ensure that all children have a fair, equal, and significant opportunity to obtain a high-quality education and reach, at a minimum, proficiency on challenging academic achievement standards and assessments. In addition, the BIE is required by NCLB to implement national standards for home-living situations in all BIE-funded residential schools. The BIE is required to assess each residential school and submit a plan to the Congress, Tribes and schools which will bring all BIE-funded residential schools up to the national standards. Information from all BIE-funded residential schools must be collected in order to assess each school's progress in meeting the national standards. Finally, the BIE is required to monitor programs, gather data, and complete reports for the U.S. Department of Education. To achieve these results, residential schools must prepare reports, develop curriculum, prepare financial planning documents, and establish standards to measure student progress. The BIE uses the Annual Report to the Department of Education and three other information collections for the BIE to collect data, measuring each school's performance. When there is a lack of progress, the residential schools must show that they have developed school improvement, corrective action, or restructuring plans to address the problems of all students. Additional information collection requirements have been developed to implement the No Child Left Behind Act.

Request for Comments

The Bureau of Indian Education requests your comments on this collection concerning:

(a) The necessity of this information collection for the proper performance of the functions of the agency, including whether the information will have practical utility;

(b) the accuracy of the agency's estimate of the burden (hours and cost) of the collection of information, including the validity of the methodology and assumptions used;

(c) ways we could enhance the quality, utility and clarity of the information to be collected; and

(d) ways we could minimize the burden of the collection of the information on the respondents, such as through the use of automated collection techniques or other forms of information technology.

Please note that an agency may not sponsor or request and an individual need not respond to a collection of information unless it has a valid OMB Control Number. It is our policy to make all comments available to the public for review at the location listed in the ADDRESSES section, room 3609, during the hours of 8 a.m. to 5 p.m. EST, Monday through Friday, except legal holidays. If you wish to have your name and/or address withheld, you must state this prominently at the beginning of your comments. We will honor your request according to the requirements of the law. All comments from organizations or representatives will be available for review. We may withhold comments from review for other reasons.

OMB Control Number: 1076-0164.

Type of Review: Renewal.

Title: No Child Left Behind Regulations, 25 CFR parts 36 and 47.

Brief Description of Collection: This collection is mandatory according to statutory regulations, and the benefit to the respondents is continued supplementary program funding.

Respondents: Bureau-funded schools with residential programs, tribal governing bodies and school boards are the respondents, and submission is mandatory.

Number of Respondents: There are 66 schools with residential programs, of which 28 are Bureau-operated and 38 are tribally operated. Thus, the collection of information is necessary from 38 of the 66 residential schools.

Estimated Time per Response: The range of time can vary from .02 hour to an average of 20 hours per 1 item.

Frequency of Response: Annually and sometimes daily.

Total Annual Burden to Respondents: It is estimated that 20,793 (number of responses) × 20 (hourly burden per response) = 415,860 total annual hours of burden.

Dated: April 27, 2007.
Carl J. Artman,
Assistant Secretary—Indian Affairs.

[FR Doc. E7-8657 Filed 5-4-07; 8:45 am]

BILLING CODE 4310-XN-P